DEPARTMENT OF JUSTICE

Notice of Lodging of Consent Decree Under the Comprehensive Environmental Response, Compensation, and Liability Act

Notice is hereby given that on November 25, 2008, an electronic version of a proposed consent decree was lodged in the United States District Court for the Western District of North Carolina in State of North Carolina et al. v. El Paso Natural Gas Company, et al., No. 5:04 CV 38 (Consolidated Cases). The consent decree settles claims by the State of North Carolina and the United States against El Paso Natural Gas Company under Section 107 of the Comprehensive Environmental Response, Compensation, and Liability Act of 1980 (“CERCLA”), as amended, 42 U.S.C. 9607, in connection with the FCX Site, a facility approximately 1.5 miles west of downtown Statesville, Iredell County, North Carolina (the “Site”).

Under the terms of the proposed consent decree, El Paso will pay the United States $1.5 million and will pay the State of North Carolina $110,000 to resolve liability for two operable units at the Site. El Paso will also dismiss with prejudice all counterclaims filed against the United States.

The Department of Justice will receive for a period of thirty (30) days from the date of this publication comments relating to the consent decree. Comments should be addressed to the Assistant Attorney General, Environment and Natural Resources Division, and either emailed to pubcomment-ees.enrd@usdoj.gov or mailed to United States Department of Justice, P.O. Box 7611, Washington, DC 20044-7611. Comments should refer to State of North Carolina et al. v. El Paso Natural Gas Company, et al., No. 5:04 CV 38 (Consolidated Cases) and DOJ # 90-11-3-08264.

During the public comment period, the proposed consent decree may also be examined on the following U.S. Department of Justice Web site, http://www.usdoj.gov/enrd/Consent_Decrees.html. The consent decree may be examined at the Office of the United States Attorney for the Western District of North Carolina The Carillon Bldg., 227 West Trade St., Suite 1700, Charlotte, North Carolina.

A copy of the proposed Consent Decree may also be obtained by mail from the Consent Decree Library, U.S. Department of Justice, P.O. Box 7611, Washington, DC 20044-7611 or by faxing or e-mailing a request to Tonia Fleetwood (tonia.fleetwood@usdoj.gov), fax no. (202) 514-0097, phone confirmation no. (202) 514-1547. In requesting a copy from the Consent Decree Library, please refer to the referenced case and DOJ Reference Number During the public comment period, and please enclose a check in the amount of $6.75 (25 cents per page reproduction cost) payable to the U.S. Treasury, or, if by e-mail or fax, forward a check in that amount to the Consent Decree Library at the stated address.

Henry Friedman,
Assistant Chief, Environmental Enforcement Section, Environment and Natural Resources Division.

[FR Doc. E8-30619 Filed 12-23-08; 8:45 am]

BILLING CODE 4410-15-P